INTERNATIONAL TRADE COMMISSION

[Investigation No. 731-TA-925 (Final)]

Greenhouse Tomatoes From Canada

Determination

On the basis of the record ¹ developed in the subject investigation, the United States International Trade Commission (Commission) determines,² pursuant to section 735(b) of the Tariff Act of 1930 (19 U.S.C. 1673d(b)) (the Act), that an industry in the United States is not materially injured or threatened with material injury, and the establishment of an industry in the United States is not materially retarded, by reason of imports from Canada of greenhouse tomatoes, provided for in subheadings 0702.00.20, 0702.00.40, and 0702.00.60 of the Harmonized Tariff Schedule of the United States, that have been found by the Department of Commerce (Commerce) to be sold in the United States at less than fair value (LTFV).

¹ The record is defined in sec. 207.2(f) of the Commission's Rules of Practice and Procedure (19 CFR 207.2(f)).

² Commissioner Lynn M. Bragg dissenting.

Background

The Commission instituted this investigation effective March 28, 2001, following receipt of a petition filed with the Commission and Commerce by Carolina Hydroponic Growers Inc., Leland, NC; Eurofresh, Inc., Willcox, AZ; Hydro Age, Cocoa Beach, FL; Sun Blest Management, Fort Lupton, CO; Sun Blest Farms, Peyton, CO; and Village Farms, LP, Eatontown, NJ. The final phase of the investigation was scheduled by the Commission following notification of a preliminary determination by Commerce that imports of greenhouse tomatoes from Canada were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of November 14, 2001 (66 FR 57112). The hearing was held in Washington, DC, on February 21, 2002, and all persons who requested the opportunity were permitted to appear in person or by counsel.

The Commission transmitted its determination in this investigation to the Secretary of Commerce on April 11, 2002. The views of the Commission are contained in USITC Publication 3499 (April 2002), entitled Greenhouse Tomatoes from Canada: Investigation No. 731-TA-925 (Final).

Issued: April 10, 2002.
By order of the Commission.
Marilyn R. Abbott,
Secretary.

[FR Doc. 02-9229 Filed 4-15-02; 8:45 am]

BILLING CODE 7020-02-P